DEPARTMENT OF TRANSPORTATION

Surface Transportation Board

[STB Docket No. AB-992X]

Atlantic & Pacific Railroad and Transportation Company—Discontinuance of Service Exemption—in Rice County, KS

On March 2, 2006, Atlantic & Pacific Railroad and Transportation Company (APR) filed with the Board a petition under 49 U.S.C. 10502 for exemption from the provisions of 49 U.S.C. 10903 to discontinue service over an approximately 4-mile line of railroad owned by the Kansas & Oklahoma Railroad (KO) and located in Rice County, KS.¹ The line extends from the point of interchange with KO's line at approximately milepost 87.0 (at or near Chase, KS), to the point of interchange with KO's line at approximately milepost 91.0 (at or near Silica, KS). The line traverses U.S. Postal Service Zip Codes 67524, 67554, and 67573, and includes no stations.

¹ APR was granted an exemption to lease and operate the line in Atlantic & Pacific Railroad and Transportation Company—Lease and Operation Exemption—Kansas & Oklahoma Railroad, STB Finance Docket No. 34451 (STB served July 20, 2004). According to APR, the line has no active shippers and no rail service has been performed during the lease term.

APR states that, as it is not the owner of the line, it does not have information on whether the line contains Federally granted rights-of-way. Any documentation in the possession of the railroad will be made available promptly to those requesting it.

The interest of railroad employees will be protected by the conditions set forth in Oregon Short Line R. Co.—Abandonment—Goshen, 360 I.C.C. 91 (1979).

By issuing this notice, the Board is instituting an exemption proceeding pursuant to 49 U.S.C. 10502(b). A final decision will be issued by June 20, 2006.

Any offer of financial assistance (OFA) under 49 CFR 1152.27(b)(2) will be due no later than 10 days after service of a decision granting the petition for exemption. Each OFA must be accompanied by the appropriate filing fee. See 49 CFR 1002.2(f)(25).²

² Because this is a discontinuance proceeding and not an abandonment, trail use/rail banking and public use conditions are not appropriate. Likewise, no environmental or historic documentation is required under 49 CFR 1105.6(c) and 1105.8.

All filings in response to this notice must refer to STB Docket No. AB-992X and must be sent to: (1) Surface Transportation Board, 1925 K Street, NW., Washington, DC 20423-0001; and (2) Rose-Michele Nardi, Weiner Brodsky Sidman Kider PC, 1300 19th Street, NW., 5th Floor, Washington, DC 20005. Replies to the petition are due on or before April 11, 2006.

Persons seeking further information concerning discontinuance procedures may contact the Board's Office of Public Services at (202) 565-1592 or refer to the full abandonment or discontinuance regulations at 49 CFR part 1152. Questions concerning environmental issues may be directed to the Board's Section of Environmental Analysis at (202) 565-1539. [Assistance for the hearing impaired is available through the Federal Information Relay Service (FIRS) at 1-800-877-8339.]

Board decisions and notices are available on our Web site at http://www.stb.dot.gov.

Decided: March 16, 2006.
By the Board, David M. Konschnik, Director, Office of Proceedings.
Vernon A. Williams,
Secretary.

[FR Doc. 06-2827 Filed 3-22-06; 8:45 am]

BILLING CODE 4915-01-P